DEPARTMENT OF HEALTH AND HUMAN SERVICES

National Institutes of Health

Center for Scientific Review; Amended Notice of Meeting

Notice is hereby given of a change in the meeting of the Pathophysiological Basis of Mental Disorders and Addictions Study Section, October 10, 2013, 8:00 a.m. to October 11, 2013, 5:00 p.m., Embassy Suites Washington, DC—Convention Center, 900 10th St. NW., Washington, DC 20001 which was published in the Federal Register on September 11, 2013, 78 FR 55753.

The meeting will be held on November 18-19, 2013 at the Melrose Hotel, 2430 Pennsylvania Avenue NW., Washington, DC 20037. The meeting time remains the same. The meeting is closed to the public.

Dated: October 25, 2013.
Anna Snouffer,
Deputy Director, Office of Federal Advisory Committee Policy.

[FR Doc. 2013-25901 Filed 10-30-13; 8:45 am]

BILLING CODE 4140-01-P